DEPARTMENT OF TRANSPORTATION

Pipeline and Hazardous Materials Safety Administration

[Docket No. PHMSA-2014-0018]

Pipeline Safety: Information Collection Activities, Revisions to Operator Identification (OPID) Assignment Request and Operator Registry Notification

AGENCY: Pipeline and Hazardous Materials Safety Administration (PHMSA), DOT.

ACTION: Notice and request for comments.

SUMMARY: In accordance with the Paperwork Reduction Act of 1995, the Pipeline and Hazardous Materials Safety Administration (PHMSA) invites comments on its intention to revise two forms, PHMSA F 1000.1—OPID Assignment Request and PHMSA F 1000.2—Operator Registry Notification, and its intention to request approval from the Office of Management and Budget (OMB) for revised information collection burdens.

DATES: Interested persons are invited to submit comments on or before May 30, 2014.

ADDRESSES: Comments may be submitted in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of DOT, West Building, 1200 New Jersey Avenue SE., Washington, DC, between 9:00 a.m. and 5:00 p.m., Monday through Friday, except Federal holidays.

Instructions: Identify the docket number, PHMSA-2014-0018, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE., Washington, DC, between 9:00 a.m. and 5:00 p.m., Monday through Friday, except Federal holidays. If you wish to receive confirmation of receipt of your written comments, please include a self-addressed, stamped postcard with the following statement: “Comments on: PHMSA-2014-0018.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by email at Angela.Dow@dot.gov, by fax at 202-366-4566, or by mail at DOT, PHMSA, 1200 New Jersey Avenue SE., PHP-30, Washington, DC 20590-0001.

SUPPLEMENTARY INFORMATION:

I. Background

Section 1320.8(d), Title 5, Code of Federal Regulations (CFR), requires PHMSA to provide interested members of the public and affected agencies an opportunity to comment on information collection and recordkeeping requests. This notice identifies a revised information collection request that PHMSA will be submitting to OMB for approval. The information collected from OPID Assignment Request forms and Operator Registry Notification forms is an important tool for identifying new operators and changes to existing pipeline systems as set forth in 49 CFR 191.22 and 195.64.

A. Proposed Changes to the OPID Request Form

PHMSA is proposing to revise the OPID Assignment Request Form (PHMSA F 1000.1) to:

(1) Align the gas distribution and gas transmission commodity choices with those found on the annual and incident reports. Consistent commodity categories across all report forms would enhance PHMSA and our state partners' understanding of gas pipeline facilities.

(2) Modify the list for types of gas distribution operators to reflect the ownership structure of the operator. The current list is a mix of ownership structure and commodity. Commodity values are entered elsewhere on the form. This change would allow PHMSA and our state partners to better determine ownership structure without commodity data mixed in to ensure regulatory efforts are directed to the proper entities.

(3) Collect the miles of pipe and facility descriptions for each state. PHMSA and our state partners would gain a better understanding of the new operators' pipeline facilities through this state-by-state reporting.

(4) Eliminate liquefied natural gas (LNG) plans and procedures as a separate safety program type. LNG plans and procedures are equivalent to the operating, maintenance, and emergencies program type. The pipeline system types (i.e., LNG, gas distribution, hazardous liquid, etc.) are collected elsewhere on the form. This change would remove a redundancy from this form.

(5) Collect business cell phone numbers for contacts in addition to office phone numbers. Having both phone numbers would enhance the ability of PHMSA and our state partners to communicate with new operators.

Several changes are proposed for the instructions to enable the changes listed above, provide additional clarity, and reflect that the validation process has ended. These changes would allow operators to complete the form quickly and accurately.

B. Proposed Changes to the Operator Registry Notification

PHMSA is proposing to revise the Operator Registry Notification Form (PHMSA F 1000.2) to:

(1) Remove and revise instructions regarding pipeline safety program information submissions at several locations in the form and instructions. For example, over the past year, PHMSA has found many operators erroneously submitted Type C notifications based on these confusing instructions. These revisions would help operators avoid submitting unnecessary notifications that must later be retracted.

(2) Reduce the number of notification types and the text describing each type to enhance clarity. The current form provides a type for each regulatory requirement for notification submission. Instead of selecting one of three types for gas or liquid construction, we are proposing a single type. Details about the construction project are collected in Step 3 of the form. This would reduce operator confusion about which notification type should be submitted and eliminate a needless distinction in PHMSA's data.

(3) Require Type B notifications to indicate whether the operator is assuming or ceasing operatorship of pipeline facilities. PHMSA has to rely on the “reason for change” text field to determine which applies to the Type B notifications submitted to date. In some cases, the text field does not explain the type of change. This change would require operators to submit the information needed by PHMSA to process the operator's notification properly.

(4) Require separate notifications for an acquisition and a divestiture. Only one set of gas distribution pipeline facilities can be reported in Step 3 of the current form. If an operator were to select both acquisition and divestiture in Step 2, we would not know which gas distribution pipeline facilities were acquired and which were divested. In Step 3, gas gathering, gas transmission, and hazardous liquid pipeline facilities can be reported as acquired or divested. By restricting each notification to either acquisition or divestiture, we can eliminate half of the data fields required for gas gathering, gas transmission, and hazardous liquid pipeline facilities in Step 3 and insure that we are interpreting an operator's notification accurately.

(5) Allow an operator submitting a divestiture to request the deactivation of their OPID. If an operator no longer has regulated pipeline facilities, PHMSA deactivates the OPID. This informs our internal staff and our state partners that the OPID is no longer responsible for any regulated pipeline facilities. Under the current form and instructions, such operators are encouraged to contact PHMSA regarding deactivation. Including the ability to request deactivation in the notification would result in more efficient communication about operators with no remaining regulated pipeline facilities.

(6) Align the gas distribution and gas transmission commodity choices with those found on the annual and incident reports. Consistent commodity categories across all report forms would enhance PHMSA's and our state partners' understanding of gas pipeline facilities.

(7) Collect data about miles of pipeline separate from facilities, such as breakout tanks, storage fields, and compressor stations, in Step 3. This change is proposed in conjunction with reducing the number of construction notification types. Instead of selecting a type corresponding to facilities, the operator would select the “generic” construction type and provide data about the facilities in Step 3. Under the current form, two separate notifications would be required. This change would allow an operator to submit a single construction notification for both pipeline miles and facilities, making compliance easier for operators.

(8) Require operators to provide data about pipeline facilities (Step 3) when they submit a change in entity operating (Type B) notification. Currently, an operator provides notification of a change in the entity operating but submits no information about the pipeline facilities affected by the change. By collecting pipeline facility information, PHMSA and our state partners would understand the scope of the operating entity change.

(9) Collect the miles of pipe and facility descriptions for each state. PHMSA and our state partners would gain a better understanding of the pipeline facilities covered by a notification through this state-by-state reporting.

Several changes are proposed for the instructions to enable the changes listed above and provide additional clarity.

(10) Add a “Guidance for Selecting the Appropriate Notification Type” section to the instructions. The current instructions, both on the form and in the instruction document, have resulted in many operators submitting the incorrect type of notification. The new section summarizes the purpose of notification types and contains flow charts to guide operators to the correct type of notification based on the action they are taking. This new section would eliminate wasted time for operators submitting unnecessary notifications and needless PHMSA reviews.

II. Summary of Impacted Collection

The following information is provided for this information collection: (1) Title of the information collection; (2) OMB control number; (3) Current expiration date; (4) Type of request; (5) Abstract of the information collection activity; (6) Description of affected public; (7) Estimate of total annual reporting and recordkeeping burden; and (8) Frequency of collection. PHMSA requests comments on the following information collection, including the proposed revisions addressed in this notice. Copies of the proposed forms associated with this information collection can be found in Docket Number PHMSA-2014-0018.

Title: National Registry of Pipeline and LNG Operators.

OMB Control Number: 2137-0627.

Current Expiration Date: 12/31/2014.

Type of Request: Revision.

Abstract: The National Registry of Pipeline and LNG Operators serves as the storehouse for the reporting requirements for an operator regulated or subject to reporting requirements under 49 CFR Parts 192, 193, or 195. PHMSA is seeking to revise the forms associated with assigning and maintaining OPID information, the Operator Assignment Request Form (PHMSA F 1000.1) and the Operator Registry Notification Form (PHMSA F 1000.2).

Affected Public: Natural gas, LNG, and liquid pipeline operators.

Annual Reporting and Recordkeeping Burden:

Total Annual Responses: 630.

Total Annual Burden Hours: 630.

Frequency of Collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC on March 26, 2014.
Alan K. Mayberry,
Deputy Associate Administrator for Policy and Programs.

[FR Doc. 2014-07075 Filed 3-28-14; 8:45 am]

BILLING CODE 4910-60-P